NUCLEAR REGULATORY COMMISSION

Sunshine Act Meetings Notice

AGENCY HOLDING THE MEETINGS: Nuclear Regulatory Commission, [NRC-2013-0001].

DATE: Weeks of August 26, September 2, 9, 16, 23, 30, 2013.

PLACE: Commissioners' Conference Room, 11555 Rockville Pike, Rockville, Maryland.

STATUS: Public and Closed.

Week of August 26, 2013

Monday August 26, 2013

2:00 p.m. Discussion of Management and Personnel Issues (Closed—Ex. 2 and 6).

Tuesday, August 27, 2013

9:00 a.m. Briefing on NRC's Construction Activities (Public Meeting) (Contact: Michelle Hayes, 301-415-8375).

This meeting will be webcast live at the Web address— www.nrc.gov.

3:00 p.m. Briefing on NRC International Activities (Closed—Ex. 1 & 9) (Contact: Karen Henderson, 301-415-0202).

Week of September 2, 2013—Tentative

There are no meetings scheduled for the week of September 2, 2013.

Week of September 9, 2013—Tentative

There are no meetings scheduled for the week of September 9, 2013.

Week of September 16, 2013—Tentative

There are no meetings scheduled for the week of September 16, 2013.

Week of September 23, 2013—Tentative

There are no meetings scheduled for the week of September 23, 2013.

Week of September 30, 2013—Tentative

There are no meetings scheduled for the week of September 30, 2013.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: August 22, 2013.
Rochelle C. Bavol,
Policy Coordinator, Office of the Secretary.

[FR Doc. 2013-20972 Filed 8-23-13; 4:15 pm]

BILLING CODE 7590-01-P